DEPARTMENT OF COMMERCE

International Trade Administration

[A-588-837]

Large Newspaper Printing Presses and Components Thereof, Whether Assembled or Unassembled, from Japan: Discontinuation of Reconsideration of Sunset Review

AGENCY: Import Administration, International Trade Administration, Department of Commerce.

EFFECTIVE DATE: February 24, 2007.

FOR FURTHER INFORMATION CONTACT: David Goldberger, Kate Johnson, or Rebecca Trainor, AD/CVD Operations, Import Administration, International Trade Administration, U.S. Department of Commerce, 14th Street & Constitution Avenue, NW., Washington, DC 20230; telephone: 202-482-4136, 202-482-4929, or 202-482-4007, respectively.

Discontinuation of Reconsideration of Sunset Review

On April 13, 2006, the Department of Commerce (the Department) published the notice of initiation notice of the reconsideration of the sunset review of the antidumping duty order on large newspaper printing presses and components thereof, whether assembled or unassembled (LNPP), from Japan. See Large Newspaper Printing Presses and Components Thereof, Whether Assembled or Unassembled, From Japan: Reconsideration of Sunset Review, 71 FR 19164 (April 13, 2006). This review was initiated to reconsider the sunset review of the antidumping duty order on LNPP from Japan, which resulted in the revocation of that antidumping duty order. See, Large Newspaper Printing Presses and Components Thereof, Whether Assembled or Unassembled, from Japan (A-588-837) and Germany (A-428-821): Notice of Final Results of Five-year Sunset Reviews and Revocation of Antidumping Duty Orders, 67 FR 8522 (February 25, 2002). The Department published its preliminary results in the reconsideration of sunset review on November 6, 2006. See Large Newspaper Printing Presses and Components Thereof, Whether Assembled or Unassembled, from Japan: Preliminary Results of Reconsideration of Sunset Review, 71 FR 64927 (November 6, 2006).

On January 24, 2007, the Court of International Trade (CIT) issued its decision in Tokyo Kikai Seisakusho, Ltd. v. United States, Consol. Court No. 06-00078, Slip. Op. 07-12 (January 24, 2007), and ordered the Department to “discontinue any action in regard to a reconsideration” of the sunset review. Tokyo Kikai Seisakusho, Ltd. v. United States. See FULL CITE Slip Op. 07-12. In accordance with that is decision, the Department is discontinuing action with respect toits reconsideration of the sunset review.

Dated: February 26, 2007.
David M. Spooner,
Assistant Secretary for Import Administration.

[FR Doc. E7-3788 Filed 3-2-07; 8:45 am]

BILLING CODE 3510-DS-S